ENVIRONMENTAL PROTECTION AGENCY

[EPA-HQ-OECA-2013-0342; FRL-10004-80-OMS]

Information Collection Request Submitted to OMB for Review and Approval; Comment Request; NESHAP for Lime Manufacturing (Renewal)

AGENCY: Environmental Protection Agency (EPA).

ACTION: Notice.

SUMMARY: The Environmental Protection Agency (EPA) has submitted an information collection request (ICR), NESHAP for Lime Manufacturing (40 CFR part 63, subpart AAAAA) (EPA ICR Number 2072.08, OMB Control Number 2060-0544), to the Office of Management and Budget (OMB) for review and approval in accordance with the Paperwork Reduction Act. This is a proposed extension of the ICR, which is currently approved through March 31, 2020. Public comments were previously requested, via the Federal Register, on May 6, 2019 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before February 28, 2020.

ADDRESSES: Submit your comments, referencing Docket ID Number EPA-HQ-OECA-2013-0342, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Lime Manufacturing (40 CR Part 63, Subpart AAAAA) apply to existing facilities and new facilities that either emit or has the potential to emit any single hazardous air pollutant (HAP) at a rate of 9.07 megagrams (10 tons) or more per year or any combination of HAP at a rate of 22.68 megagrams (25 tons) or more per year from all emission sources at the plant site. This subpart covers lime kilns, their associated coolers, and processed stone handling (PSH) operation systems located at a lime manufacturing plant that is a major source. New facilities include those that commenced construction, modification or reconstruction after the date of proposal. The EPA proposed revised standards to the NESHAP for Lime Manufacturing on September 16, 2019 (84 FR 48708), however, the proposed amendments have not been finalized; therefore, the burden reflected in this ICR does not consider burden from the proposed amendments, but is based on the existing standards. This information is being collected to assure compliance with 40 CFR part 63, subpart AAAAA.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: New and existing lime manufacturing facilities that are major sources of HAP.

Respondent's obligation to respond: Mandatory (40 CFR part 63, subpart AAAAA).

Estimated number of respondents: 37 (total).

Frequency of response: Initially, occasionally, and semiannually.

Total estimated burden: 9,700 hours (per year). Burden is defined at 5 CFR 1320.3(b).

Total estimated cost: $1,460,000 (per year), which includes $335,000 in annualized capital/startup and/or operation & maintenance costs.

Changes in the Estimates: There is a decrease in the total estimated burden as currently identified in the OMB Inventory of Approved Burdens. This decrease is not due to any program changes. The change in the burden and cost estimates occurred due to several factors. First, as part of a recent inventory of facilities subject to the NESHAP for Lime Manufacturing by OAQPS, including consultations with industry representatives and industry trade associations, EPA has concluded that the number of sources subject to the regulation has decreased. Second, the recent inventory revealed an increase in the number of sources using bag leak detectors to comply with regulations, leading to an increase in O&M costs. The overall result is a decrease in burden hours and costs.

Courtney Kerwin,
Director, Regulatory Support Division.

[FR Doc. 2020-01541 Filed 1-28-20; 8:45 am]

BILLING CODE 6560-50-P